SMALL BUSINESS ADMINISTRATION

[Declaration of Disaster #3414]

State of New York

As a result of the President's major disaster declaration on May 16, 2002, I find that Clinton and Essex Counties in the State of New York constitute a disaster area due to damages caused by an earthquake occurring on April 20, 2002. Applications for loans for physical damage as a result of this disaster may be filed until the close of business on July 15, 2002 and for economic injury until the close of business on February 17, 2003 at the address listed below or other locally announced locations: U.S. Small Business Administration, Disaster Area 1 Office, 360 Rainbow Blvd., South 3rd Fl., Niagara Falls, NY 14303-1192.

In addition, applications for economic injury loans from small businesses located in the following contiguous counties may be filed until the specified date at the above location: Franklin, Hamilton, Warren and Washington Counties in the State of New York; and Addison, Chittenden and Grand Isle Counties in the State of Vermont.

The interest rates are:

| Percent
For Physical Damage:
Homeowners with credit available elsewhere | 6.625
Homeowners without credit available elsewhere | 3.312
Businesses with credit available elsewhere | 7.000
Businesses and non-profit organizations without credit available elsewhere | 3.500
Others (Including Non-Profit Organizations) with credit available elsewhere | 6.375
For Economic Injury:
Businesses and small agricultural cooperatives without credit available elsewhere | 3.500

The number assigned to this disaster for physical damage is 341402. For economic injury the number is 9P7600 for New York; and 9P7700 for Vermont.

(Catalog of Federal Domestic Assistance Program Nos. 59002 and 59008)
Dated: May 16, 2002.
Herbert L. Mitchell,
Associate Administrator for Disaster Assistance.

[FR Doc. 02-13087 Filed 5-23-02; 8:45 am]

BILLING CODE 8025-01-P